DEPARTMENT OF TRANSPORTATION

Federal Railroad Administration

[Docket No. FRA-2001-11213, Notice No. 30]

Drug and Alcohol Testing: Determination of Minimum Random Testing Rates for 2026

AGENCY: Federal Railroad Administration (FRA), Department of Transportation (DOT).

ACTION: Notification of determination.

SUMMARY: This notification of determination announces FRA's minimum annual random drug and minimum annual random alcohol testing rates for covered service, maintenance-of-way (MOW), and mechanical (MECH) employees for calendar year 2026.

DATES: This determination takes effect January 8, 2026.

FOR FURTHER INFORMATION CONTACT: Gerald Powers, FRA Drug and Alcohol Program Manager, by email: gerald.powers@dot.gov or by telephone: 202-493-6313; or Melissa Van Dermeir, FRA Drug and Alcohol Program Specialist, by email: melissavandermeir@dot.gov or by telephone: 312-720-9491.

SUPPLEMENTARY INFORMATION: Each year, FRA sets its minimum annual random testing rates after considering the last two complete calendar years of railroad industry drug and alcohol program data submitted to its Management Information System (MIS). FRA, however, reserves the right to consider factors other than MIS-reported data before deciding whether to lower annual minimum random testing rates. See 85 FR 81265 (Dec. 15, 2020).

To summarize, FRA is announcing its minimum annual random drug and alcohol testing rates for calendar year 2026 as follows:

—Covered service employee rates will remain at 25 percent for drugs and 10 percent for alcohol.

—MOW employee rates will remain at 25 percent for drugs and 10 percent for alcohol.

—MECH employee rates will remain at 50 percent for drugs but will be lowered to 10 percent for alcohol.

These rates are minimums, and railroad carriers and railroad contractors may conduct FRA random testing at higher rates.

Discussion

Random Testing Rates for Covered Service Employees

The industry-wide random drug testing positive rate for covered service employees remained below 1.0 percent for 2023 and 2024. The Administrator has therefore determined the minimum annual random drug testing rate for covered service employees will remain at 25 percent for the period January 1, 2026, through December 31, 2026.

The industry-wide random alcohol testing violation rate for covered service employees remained below 0.5 percent for 2023 and 2024. The Administrator has therefore determined the minimum random annual alcohol testing rate for covered service employees will remain at 10 percent for the period January 1, 2026, through December 31, 2026.

Random Testing Rates for MOW Employees

The industry-wide random drug testing positive rate for MOW employees remained below 1.0 percent for 2023 and 2024. The Administrator has therefore determined the minimum annual random drug testing rate for MOW employees will remain at 25 percent for the period January 1, 2026, through December 31, 2026.

The industry-wide random alcohol testing violation rate for MOW employees remained below 0.5 percent for 2023 and 2024. The Administrator has therefore determined the minimum random alcohol testing rate for MOW employees will remain at 10 percent for the period January 1, 2026, through December 31, 2026.

Random Testing Rates for MECH Employees

FRA now has industry-wide MIS data from two full consecutive calendar years for MECH employees, who became subject to FRA random drug and alcohol testing in 2022. See 87 FR 5719 (Feb. 2, 2022).

The industry-wide random drug testing positive rate for MECH employees was above 1.0 percent for 2023 and 2024. The Administrator has therefore determined the minimum annual random drug testing rate for MECH employees will remain at 50 percent for the period January 1, 2026, through December 31, 2026.

The industry-wide random alcohol testing violation rate for MECH employees was below 0.5 percent for 2023 and 2024. The Administrator has therefore determined the minimum annual random alcohol testing rate for MECH employees will be lowered from 25 percent to 10 percent for the period January 1, 2026, through December 31, 2026.

Issued in Washington, DC.
David A. Fink,
Administrator.

[FR Doc. 2026-00167 Filed 1-7-26; 8:45 am]

BILLING CODE 4910-06-P